POSTAL SERVICE

International Product Change—Direct Entry Parcels Contracts, International Return Service, and Harmonization Service

AGENCY: Postal Service™.

ACTION: Notice.

SUMMARY: The Postal Service gives notice of filing a request with the Postal Regulatory Commission to add International Direct Entry Parcels Contracts, International Return Service, and Harmonization Service to the Competitive Products List pursuant to 39 U.S.C. 3642.

DATES: June 22, 2009.

FOR FURTHER INFORMATION CONTACT: Margaret M. Falwell, 703-292-3576.

SUPPLEMENTARY INFORMATION: The United States Postal Service® hereby gives notice that it has filed with the Postal Regulatory Commission a Request of United States Postal Service to Add Direct Entry Parcels Contracts, International Return Service, and Harmonization Service to the Competitive Products List, and Notice of Filing (Under Seal) of Contract and Enabling Governors' Decision. Documents are available at http://www.prc.gov, Docket Nos. MC2009-26 and CP2009-36.

Neva R. Watson,
Attorney, Legislative.

[FR Doc. E9-14391 Filed 6-19-09; 8:45 am]

BILLING CODE 7710-12-P